DEPARTMENT OF ENERGY

Federal Energy Regulatory Commission

[Docket No. EC05-108-000]

La Paloma Acquisition Co, LLC; Notice of Filing

July 22, 2005.

Take notice that on July 15, 2005, La Paloma Acquisition Co, LLC submitted an application pursuant to section 203 of the Federal Power Act for pre-authorization, for a two-year period, effective as of the date of the Commission's Order herein, for future transfers of ownership or control of membership interests in La Paloma Acquisition Co, LLC to buyers that are banks, institutional investors, financial institutions, investment companies or related entities not primarily engaged in energy-related business activities. Applicant requests that any future buyers be pre-authorized to hold up to 20 percent of the membership interests in La Paloma Acquisition Co, LLC so long as the future buyer and/or its affiliates do not collectively own or control five percent or more voting interest in any public utility that has interests in any generation facilities or that engages in any jurisdictional activities within the California Independent System Operator, Inc.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 5, 2005.

Linda Mitry,
Deputy Secretary.

[FR Doc. E5-4021 Filed 7-27-05; 8:45 am]

BILLING CODE 6717-01-P